DEPARTMENT OF HOMELAND SECURITY

Federal Emergency Management Agency

44 CFR Part 65

[Docket ID FEMA-2008-0020]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified BFEs have been published in newspapers of local circulation and ninety (90) days have elapsed since that publication. The Assistant Administrator for Mitigation has resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa (FEMA Docket No: B-1033) | Town of Cave Creek (08-09-1202P) | December 18, 2008; December 25, 2008; Arizona Business Gazette | The Honorable Vincent Francia, Mayor, Town of Cave Creek, 5140 East New River Road Cave Creek, AZ 85331 | April 24, 2009 | 040129
Maricopa (FEMA Docket No: B-1033) | Unincorporated areas of Maricopa County (08-09-1202P) | December 18, 2008; December 25, 2008; Arizona Business Gazette | The Honorable Andrew W. Kunasek, Chairman, Maricopa County Board of Supervisors, 301 West Jefferson Street, 10th Floor, Phoenix, AZ 85003 | April 24, 2009 | 040037
Maricopa (FEMA Docket No: B-1036) | Unincorporated areas of Maricopa County (08-09-1420P) | December 25, 2008; January 1, 2009; Arizona Business Gazette | The Honorable Andrew W. Kunasek, Chairman, Maricopa County Board of Supervisors, 301 West Jefferson, 10th Floor, Phoenix, AZ 85003 | May 4, 2009 | 040037
Delaware: New Castle (FEMA Docket No: B-1033) | Unincorporated areas of New Castle County (08-03-1537P) | December 18, 2008; December 25, 2008; The News Journal | The Honorable Christopher Coons, New Castle County Executive, 87 Reads Way, New Castle, DE 19720 | April 17, 2009 | 105085
Florida:
Lake (FEMA Docket No: B-1036) | Town of Lady Lake (08-04-5093P) | January 12, 2009; January 19, 2009; The Villages Daily Sun | The Honorable Jim Richards, Mayor, Town of Lady Lake, 409 Fennell Boulevard, Lady Lake, FL 32159 | January 30, 2009 | 120613
Miami-Dade (FEMA Docket No: B-1036) | City of Coral Gables (09-04-0251P) | January 12, 2009; January 20, 2009; Miami Daily Business Review | The Honorable Don Slesnick, II, Mayor, City of Coral Gables, 405 Biltmore Way, 2nd Floor, Coral Gables, FL 33134 | December 31, 2008 | 120639
Georgia: Columbia (FEMA Docket No: B-1030) | Unincorporated areas of Columbia County (08-04-4889P) | December 14, 2008; December 21, 2008; The Columbia County News Times | The Honorable Ron C. Cross, Chairman, Columbia County Board of Commissioners, P.O. Box 498, Evans, GA 30809 | April 20, 2009 | 130059
Idaho:
Ada (FEMA Docket No: B-1033) | Unincorporated areas of Ada County (08-10-0528P) | December 22, 2008; December 29, 2008; Idaho Statesman | The Honorable Fred Tilman, Chairman, Ada County, Board of Commissioners, 200 West Front Street, Boise, ID 83702 | April 28, 2009 | 160001
Ada (FEMA Docket No: B-1033) | City of Eagle (08-10-0528P) | December 22, 2008; December 29, 2008; Idaho Statesman | The Honorable Phil Brandy, Mayor, City of Eagle, P.O. Box 1520, Eagle, ID 83616 | April 28, 2009 | 160003
Kentucky: Lexington-Fayette Urban County Government (FEMA Docket No: B-1046) | Lexington-Fayette Urban County Government (08-04-5296P) | December 12, 2008; December 19, 2008; Lexington Herald Leader | The Honorable Jim Newberry, Mayor, Lexington-Fayette Urban County Government, 200 East Main Street, 12th Floor, Lexington, KY 40507 | November 28, 2008 | 210067
Maryland:
Carroll and Frederick (FEMA Docket No: B-1030) | Unincorporated areas of Carroll County (08-03-1713P) | December 15, 2008; December 22, 2008; Carroll County Times | The Honorable Julia Gouge, President, Carroll County Board of Commissioners, 225 North Center Street, Westminster, MD 21157 | April 21, 2009 | 240015
Carroll and Frederick (FEMA Docket No: B-1030) | Unincorporated areas of Frederick County (08-03-1713P) | December 12, 2008; December 19, 2008; Frederick News Post | The Honorable Jan Gardner, President, Frederick County Board of Commissioners, 12 East Church Street, Frederick, MD 21701 | April 21, 2009 | 240027
New Hampshire: Grafton (FEMA Docket No: B-1046) | Town of Waterville Valley (08-01-0905P) | September 4, 2008; September 11, 2008; Record Enterprise | The Honorable Dave Jenkins, Chair, Board of Selectman, Town of Waterville Valley, Town Office, P.O. Box 500, Waterville Valley, NH 03215 | January 9, 2009 | 330077
New Jersey:
Somerset (FEMA Docket No: B-1036) | Borough of Bound Brook (09-02-0051P) | January 9, 2009; January 16, 2009; Courier News | The Honorable Carey Pilato, Mayor, Borough of Bound Brook, 230 Hamilton Street, Bound Brook, NJ 08805 | December 24, 2008 | 340430
Somerset (FEMA Docket No: B-1036) | Township of Bridgewater (09-02-0051P) | January 9, 2009; January 16, 2009; Courier News | The Honorable Patricia Flannery, Mayor, Township of Bridgewater, P.O. Box 6300, Bridgewater, NJ 08807 | December 24, 2008 | 340432
North Carolina:
Alamance (FEMA Docket No: B-1030) | Unincorporated areas of Alamance County (08-04-4817P) | December 10, 2008; December 17, 2008; The Times-News | Mr. David I. Smith, Manager, Alamance County, Alamance County Office Building, 124 West Elm Street, Graham, NC 27253 | April 16, 2009 | 370001
Iredell (FEMA Docket No.: B-039) | Unincorporated areas of Iredell County (08-04-2756P) | January 7, 2009; January 14, 2009; Statesville Record & Landmark | Mr. Joel Mashburn, Manager, Iredell County, P.O. Box 788, Statesville, NC 28687 | May 14, 2009 | 370313
Oklahoma:
Oklahoma (FEMA Docket No: B-1036) | Town of Arcadia (08-06-2651P) | January 7, 2009; January 14, 2009; The Oklahoman | The Honorable Marilyn Murrell, Mayor, Town of Arcadia, P.O. Box 268, Arcadia, OK 73004 | December 23, 2008 | 400551
Tulsa (FEMA Docket No: B-1036) | City of Broken Arrow (08-06-2075P) | January 9, 2009; January 16, 2009; Tulsa Daily Commerce & Legal News | The Honorable Wade McCaleb, Mayor, City of Broken Arrow, P.O. Box 610, Broken Arrow, OK 74013 | December 24, 2008 | 400236
Pennsylvania:
Allegheny (FEMA Docket No: B-1036) | Municipality of Monroeville (09-03-0036P) | January 12, 2009; January 19, 2009; Pittsburgh Post Gazette | The Honorable Gregory Rosenko, Mayor, Municipality of Monroeville, 2700 Monroeville Boulevard, Monroeville, PA 15146 | December 31, 2008 | 420054
Berks (FEMA Docket No: B-1030) | Township of Colebrookdale (08-03-1560P) | December 11, 2008; December 18, 2008; The Boyertown Area Times | The Honorable Todd Gamler, President, Township of Colebrookdale, Board of Commissioners, 765 West Philadelphia Avenue, Boyertown, PA 19512 | April 17, 2009 | 421057
Chester (FEMA Docket No: B-1033) | Township of Birmingham (08-03-1499P) | December 30, 2008; January 6, 2009; The Daily Local News | The Honorable John L. Conklin, Chairman, Birmingham Township, Board of Supervisors, 1040 West Street Road, West Chester, PA 19382-8012 | May 6, 2009 | 421474
Texas:
Fort Bend (FEMA Docket No: B-1036) | Fort Bend County M.U.D #23 (08-06-2237P) | January 9, 2009; January 16, 2009; Fort Bend Herald | The Honorable Ellen Hughes, Board President, Fort Bend County Municipal, Utility District No. 23, 1715 Misty Fawn Lane, Fresno, TX 77545 | December 31, 2008 | 481590
Harris (FEMA Docket No: B-1036) | Unincorporated areas of Harris County (08-06-2044P) | January 9, 2009; January 16, 2009; Houston Chronicle | The Honorable Ed Emmett, Harris County Judge, 1001 Preston Street, Suite 911, Houston, TX 77002 | January 30, 2009 | 480287

(Catalog of Federal Domestic Assistance No. 97.022, “Flood Insurance.”)

Dated: June 17, 2009.
Deborah S. Ingram,
Acting Deputy Assistant Administrator for Mitigation, Mitigation Directorate, Department of Homeland Security, Federal Emergency Management Agency.

[FR Doc. E9-15362 Filed 6-26-09; 8:45 am]

BILLING CODE 9110-12-P